DEPARTMENT OF THE INTERIOR

Bureau of Land Management

[LLCAN060000; L14300000; EU0000; CACA 54251]

Notice of Realty Action: Non-Competitive (Direct) Sale of Reversionary Interest, Butte County, CA

AGENCY: Bureau of Land Management, Interior.

ACTION: Notice of Realty Action.

SUMMARY: The Bureau of Land Management (BLM), Redding Field Office, proposes to sell the Federal reversionary interest in 5 acres of land in Butte County, California, near Forbestown. The land was previously conveyed out of Federal ownership in 1971 subject to a Federal reversionary interest which is now proposed for sale under the authority of the Federal Land Policy and Management Act of 1976 (FLPMA). The Federal reversionary interest will be sold to the Forbestown Lodge No. 50, Free and Accepted Masons, a California non-profit association, for $41,000, which represents the appraised fair market value of $50,000 today, less the $9,000 previously paid for the land in 1971.

DATES: Comments regarding the proposed sale must be received by the BLM on or before June 30, 2014.

ADDRESSES: Send written comments concerning the proposed sale to the Field Manager, BLM, Redding Field Office, 355 Hemsted Drive, Redding, CA 96002.

FOR FURTHER INFORMATION CONTACT: Ilene Emry, Realty Specialist, BLM Redding Field Office, telephone 530-224-2100; address 355 Hemsted Drive, Redding, CA 96002. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM will offer a direct sale for the reversionary interest in the following described land in Butte County, California. The reversionary interest is proposed for direct sale in accordance with Section 203 of the FLPMA.

Mount Diablo Meridian,

T. 19 N., R. 6 E.,

Sec. 10, lot 27.

The area described contains 5 acres.

The BLM conveyed the surface estate to Forbestown Lodge No. 50 in 1971 in patent 04-71-0165 under the authority of the Recreation and Public Purpose Act of June 14, 1926, (R&PP) for a lodge, playground, and parking area. Only the playground and parking area were developed. The United States (U.S.) retained a reversionary interest which could result in title reverting to the U.S. if the land is used for purposes not allowed under the R&PP Act or is transferred to another party without the BLM's approval. The BLM received a request from Forbestown Lodge No. 50 to purchase the Federal reversionary interest to allow possible commercial use of the land, allow use of the land as collateral for a construction loan, and to transfer the land to another party without the BLM's approval.

The Federal reversionary interest here is difficult and uneconomic to manage as part of the public lands because it is surrounded by private land and is not contiguous to any public land administered by the BLM. The regulations at 43 CFR 2711.3-3(a) permit the BLM to make direct sale of public lands when a competitive sale is not appropriate. The BLM has determined that the public interest would best be served by a direct sale to Forbestown Lodge No. 50, which currently owns the land subject to the Federal reversionary interest and has constructed the facilities identified above. The Federal reversionary interest in the land described above was not identified for sale in the 1993 Redding Resource Management Plan, as amended. As a result, a plan amendment is required to sell the Federal reversionary interest. The BLM released a plan amendment and environmental assessment which identifies the Federal reversionary interest as suitable for sale. Information on the plan amendment is available at the location identified in ADDRESSES above.

The Federal reversionary interest will not be sold until at least July 15, 2014. Any conveyance document issued will only convey the reversionary interest retained by the U.S. in patent 04-71-0165 and will contain the following terms, conditions, and reservations:

1. A condition that the conveyance be subject to all valid existing rights of record.

2. A condition that the conveyance will be subject to all reservations, conditions and restrictions in patent 04-71-0165, except the Federal reversionary interest which is being conveyed.

3. An appropriate indemnification clause protecting the U.S. from claims arising out of the patentee's use, occupancy, or operations on the patented lands.

4. Additional terms and conditions that the authorized officer deems appropriate. Detailed information concerning the proposed sale including the appraisal, planning and environmental document are available for review at the location identified in ADDRESSES above.

Public comments regarding the proposed sale may be submitted in writing to the attention of the BLM Redding Field Manager (see ADDRESSES above) on or before June 30, 2014. Comments received in electronic form, such as email will not be considered. Any comments regarding the proposed sale will be reviewed by the BLM State Director or other authorized official of the Department of the Interior, who may sustain, vacate, or modify this realty action in whole or in part. In the absence of timely filed objections, this realty action will become the final determination of the Department of the Interior.

Before including your address, phone number, email address, or other personal identifying information in your comment, you should be aware that your entire comment—including your personal identifying information—may be made publicly available at any time. While you can ask us in your comment to withhold your personal identifying information from public review, we cannot guarantee that we will be able to do so.

Authority: 43 CFR 2711.1-2(a) and (c).

Cynthia Staszak,
Associate Deputy State Director, Resources California.

[FR Doc. 2014-11394 Filed 5-15-14; 8:45 am]

BILLING CODE 4310-40-P